DEPARTMENT OF HOMELAND SECURITY

Bureau of Citizenship and Immigration Services

Agency Information Collection Activities: Proposed Collection; Comment Request

ACTION: 30-Day notice of information collection under review: interagency record of individual requesting change/adjustment to or from A or G status or requesting A, G, or NATO dependent employment authorization; form I-566.

The Department of Homeland Security (DHS), U.S. Citizenship and Immigration Services (CIS), has submitted the following information collection request to the Office of Management and Budget (OMB) for review and clearance in accordance with the Paperwork Reduction Act of 1995. The information collection was previously published in the Federal Register on June 4, 2003 at 68 FR 33513, allowing for a 60-day public comment period. The CIS received no comments on the proposed information collection.

The purpose of this notice is to notify the public that the CIS is seeking OMB approval on the revision of this information collection and to allow an additional 30 days for public comments. Comments are encouraged and will be accepted until December 15, 2003. This process is conducted in accordance with 5 CFR 1320.10.

Written comments and/or suggestions regarding the items contained in this notice, especially regarding the estimated public burden and associated response time, should be directed to the Office of Management and Budget, Office of Information and Regulatory Affairs, Attention: DHS Desk Officer, 725-17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Interagency Record of Individual Requesting Change/Adjustment to or from A or G Status or Requesting A, G, or NATO Dependent Employment Authorization.

(3) Agency form number, if any, and the applicable component of the Department of Homeland Security sponsoring the collection: Form I-566. U.S. Citizenship and Immigration Services.

(4) Affected public who will be asked or required to respond, as well as a brief abstract: Primary: Individuals or households. This form facilitates processing by the Department of Homeland Security and the Department of State of applications for benefits filed by dependents of diplomats, international organizations, and NATO personnel.

(5) An estimate of the total number of respondents and the amount of time estimated for an average respondent to respond: 5,060 responses at 15 minutes (.25) hours per response.

(6) An estimate of the total public burden (in hours) associated with the collection: 1,265 annual burden hours.

If you have additional comments, suggestions, or need a copy of the proposed information collection instrument with instructions, or additional information, please contact Richard A. Sloan 202-514-3291, Director, Regulations and Forms Services Division, U.S. Citizenship and Immigration Services, 425 I Street, NW., Room 4304, Washington, DC 20536. Additionally, comments and/or suggestions regarding the item(s) contained in this notice, especially regarding the estimated public burden and associated response time may also be directed to Mr. Richard A. Sloan.

If additional information is required contact: Mr. Steve Cooper, Clearance Officer, Office of the Chief Clearance Officer, Department of Homeland Security, Regional Office Building 3, 7th and D Streets, SW., Suite 4636-26, Washington, DC 20202.

Dated: November 6, 2003.
Richard A. Sloan,
Department Clearance Officer, Department of Homeland Security, Citizenship and Immigration Services.

[FR Doc. 03-28486 Filed 11-13-03; 8:45 am]

BILLING CODE 4410-10-M